NUCLEAR REGULATORY COMMISSION

[Docket No. 50-254]

Exelon Generation Company, LLC; Quad Cities Nuclear Power Station, Unit 1; Environmental Assessment and Finding of No Significant Impact

The U.S. Nuclear Regulatory Commission (NRC) is considering issuance of an exemption from certain requirements of 10 CFR 50.55a(g)(4)(ii) for Facility Operating License No. DPR-29, issued to Exelon Generation Company, LLC (the licensee), for operation of the Quad Cities Nuclear Power Station, Unit 1, located in Rock Island County, Illinois. Therefore, as required by 10 CFR 51.21, the NRC is issuing this environmental assessment and finding of no significant impact.

Environmental Assessment

Identification of the Proposed Action

The proposed action would grant a schedular extension for Quad Cities Nuclear Power Station (Quad Cities), Unit 1, from implementation of inservice examinations of the reactor pressure vessel (RPV) nozzle-to-vessel welds and nozzle inside radius sections, per American Society of Mechanical Engineers (ASME) Boiler and Pressure Vessel Code (Code), Section XI, Table IWB-2500, Examination Category B-D, Item Nos. B3.90 and B3.100, by the end of the current 120-month inspection interval, as required by 10 CFR 50.55a, “Codes and standards,” paragraph (g)(4)(ii). The current interval ends on February 17, 2003 for Quad Cities Unit 1. This schedular exemption requests an extension for the performance of the third interval inspections until the completion of the Unit 1 refueling outage in January 2005.

The proposed action is in accordance with the licensee's application dated July 10, 2002.

The Need for the Proposed Action

The proposed action is needed to prevent unnecessary radiation worker exposure. Quad Cities Unit 1 was not specifically designed or constructed to permit easy access to the RPV nozzle-to-vessel welds and nozzle inside radius sections for inservice inspection, from the inside or outside surface. The task to access a nozzle for inservice examination employs several work groups and a significant number of man-hours with the attendant large radiation exposure accumulation. The estimated radiation dose avoided by exempting the nine nozzles until the fourth inspection interval is a minimum of 60 man-rem.

The licensee wishes to extend the inspection schedule in order to reduce unnecessary radiation exposure. Such an extension requires an exemption because 10 CFR 50.55a(g)(4)(ii) requires inservice examinations of the RPV nozzle-to-vessel welds and nozzle inside radius sections, per the ASME Code, Section XI, Table IWB-2500, Examination Category B-D, Item Nos. B3.90 and B3.100, by the end of the current 120-month inspection interval.

Environmental Impacts of the Proposed Action

The NRC has completed its evaluation of the proposed action and concludes that there are no significant adverse environmental impacts associated with the proposed action.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Quad Cities Nuclear Power Station, Units 1 and 2, dated September 1972.

Agencies and Persons Consulted

On July 25, 2002, the staff consulted with the Illinois State official, Mr. F. Niziolek of the Department of Nuclear Safety, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 10, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 27th day of August 2002.
For the Nuclear Regulatory Commission.
Anthony J. Mendiola,
Chief, Section 2, Project Directorate III, Division of Licensing Project Management, Office of Nuclear Reactor Regulation.

[FR Doc. 02-22598 Filed 9-4-02; 8:45 am]

BILLING CODE 7590-01-P